DEPARTMENT OF LABOR

Employment and Training Administration

[TA-W-60,197]

C&C Smith Lumber Company, Inc., Summerhill, PA; Notice of Negative Determination Regarding Application for Reconsideration

By application dated November 29, 2006, a company official requested administrative reconsideration of the Department's negative determination regarding eligibility to apply for Trade Adjustment Assistance (TAA), applicable to workers and former workers of the subject firm. The denial notice was signed on November 2, 2006, and published in the Federal Register on November 22, 2006 (71 FR 67650).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The petition for the workers of C&C Smith Lumber Company, Inc., Summerhill, Pennsylvania engaged in production of furniture parts was denied because the “contributed importantly” group eligibility requirement of Section 222 of the Trade Act of 1974, as amended, was not met, nor was there a shift in production from that firm to a foreign country. The “contributed importantly” test is generally demonstrated through a survey of the workers' firm's customers. The survey revealed no imports of furniture parts in 2004, 2005 and January through September 2006. The subject firm did not import furniture parts nor did they shift production to a foreign country during the relevant period.

The petitioner states that the affected workers lost their jobs as a direct result of a loss of customers in the furniture industry. The petitioner alleges that major declining customers of the subject firm which manufacture furniture decreased purchases of various furniture parts and components from the C&C Smith Lumber Company, Inc., Summerhill, Pennsylvania because their business was in its turn negatively impacted by increased imports of furniture. Therefore, the petitioner concludes that because sales and production of furniture parts at the subject firm have been negatively impacted by increasing presence of foreign imports of furniture on the market, workers of the subject firm should be eligible for TAA.

In order to establish import impact, the Department must consider imports that are like or directly competitive with those produced at the subject firm. The Department conducted a survey of the subject firm's major declining customers regarding their purchases of furniture parts and components. The survey revealed that the declining customers did not increase their imports of furniture parts and components during the relevant period.

Imports of furniture cannot be considered like or directly competitive with furniture parts, such as hardwood furniture squares and stair parts, produced by C&C Smith Lumber Company, Inc., Summerhill, Pennsylvania and imports of furniture are not relevant in this investigation.

Upon further review of the previous investigation and further contact with the company official, the Department requested an additional list of customers in order to conduct a fuller investigation to determine whether there were any imports of furniture parts and components during the relevant time period.

The Department conducted a further survey of the additional customers regarding their purchases of furniture parts. The survey revealed that none of the respondents reported imports of furniture parts during the relevant time period.

Moreover, the subject firm does not import furniture parts and components and did not shift production of furniture parts and components abroad.

Conclusion

After review of the application and investigative findings, I conclude that there has been no error or misinterpretation of the law or of the facts which would justify reconsideration of the Department of Labor's prior decision. Accordingly, the application is denied.

Signed at Washington, DC, this day 19th of January, 2007.
Elliott S. Kushner,
Certifying Officer, Division of, Trade Adjustment Assistance.

[FR Doc. E7-1695 Filed 2-1-07; 8:45 am]

BILLING CODE 4510-30-P